DEPARTMENT OF DEFENSE

Army Corps of Engineers

[Docket ID: USA-2021-HQ-0012]

Submission for OMB Review; Comment Request

AGENCY: U.S. Army Corps of Engineers, Department of Defense (DoD).

ACTION: 30-Day information collection notice.

SUMMARY: The Department of Defense has submitted to OMB for clearance the following proposal for collection of information under the provisions of the Paperwork Reduction Act.

DATES: Consideration will be given to all comments received by March 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Flood and Coastal Storm Damage Surveys; OMB Control Number 0710-0017.

Type of Request: Reinstatement (without change) of a Previously Approved Collection.

Number of Respondents: 3,000.

Responses per Respondent: 1.

Annual Responses: 3,000.

Average Burden per Response: 23 minutes.

Annual Burden Hours: 1,150.

Needs and Uses: The USACE provides flood risk management structural and nonstructural mitigation, planning and tech services to communities, residents and businesses at risk of flooding. Flood damage surveys are administered by USACE and its contractors to determine the impacts and potential impacts of flooding and to determine how communities, residents, and businesses respond to flooding. The data are used for estimating damage for factors such as depth of flooding, construction types, and different occupancies of use, which influences project formulation and budgeting.

Affected Public: Business or other for-profit; individuals or households; not-for-profit institutions; State, Local, or Tribal Government.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: February 18, 2021.
Aaron T. Siegel,
Alternate OSD Federal Register Liaison Officer, Department of Defense.

[FR Doc. 2021-03994 Filed 2-25-21; 8:45 am]

BILLING CODE 5001-06-P